NATIONAL AERONAUTICS AND SPACE ADMINISTRATION

[Notice: 23-063]

Name of Information Collection: Electronic Medical Record for Implementation of TREAT Astronaut Act

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by July 13, 2023.

ADDRESSES: Written comments and recommendations for this information collection should be sent within 30 days of publication of this notice to www.reginfo.gov/public/do/PRAMain. Find this particular information collection by selecting “Currently under 30-day Review—Open for Public Comments” or by using the search function.

FOR FURTHER INFORMATION CONTACT: Requests for additional information or copies of the information collection instrument(s) and instructions should be directed to Bill Edwards-Bodmer, NASA Clearance Officer, NASA Headquarters, 300 E Street SW, JF0000, Washington, DC 20546, 757-864-7998, or b.edwards-bodmer@nasa.gov.

SUPPLEMENTARY INFORMATION:

I. Abstract: The project includes standard use of Electronic Medical Records (EMR) under NASA 10 HIMS regulations at Johnson Space Center (JSC) Occupational Health Branch (OHB) by authorized healthcare providers assigned to, employed by, contracted to, or under partnership agreement with the JSC, OHB. This EMR will be used in support of the TREAT Astronaut Act to generate medical records of medical care, diagnosis, treatment, surveillance examinations (e.g., flight certification, special purpose and health maintenance), and exposure records (e.g., hazardous materials and ionizing radiation). Management and utilization of the EMR at JSC, OHB clinics will be carried out in support of the TREAT Astronaut Act; Public Law 115-10. The TREAT Astronaut Act is subsection 441 within the National Aeronautics and Space Administration Transition Authorization Act of 2017 (115th Congress, https://www.congress.gov/115/plaws/publ10/PLAW-115publ10.pdf). The goal is to maintain digital medical records of routine health care, emergency treatment, and scheduled examinations for active or retired astronauts in order to develop a knowledge base and address gaps in services in support of medical monitoring, diagnosis and treatment of conditions associated with human space flight as stated in Public Law 115-10.

II. Methods of Collection: Electronic and paper.

III. Data:

Title: Electronic Medical Record for Implementation of TREAT Astronaut Act. (Pub. L. 115-10).

OMB Number: 2700-0171.

Type of Review: Reinstatement.

Affected Public: Astronauts and payload specialists.

Estimated Annual Number of Activities: 175.

Estimated Number of Respondents per Activity: 1.

Annual Responses: 175.

Estimated Time per Response: 0.5 hours.

Estimated Total Annual Burden Hours: 87.5.

Estimated Total Annual Cost: $4,375.

IV. Request for Comments: Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

William Edwards-Bodmer,
NASA PRA Clearance Officer.

[FR Doc. 2023-12567 Filed 6-12-23; 8:45 am]

BILLING CODE 7510-13-P